Memorandum of July 24, 2024

Delegation of Authority Under the Protecting Americans From Foreign Adversary Controlled Applications Act

Memorandum for the Secretary of State[,] the Secretary of the Treasury[,] the Secretary of Defense[,] the Attorney General[,] the Secretary of Commerce[,] the Secretary of Homeland Security[, and] the Director of National Intelligence

By the authority vested in me as President by the Constitution and the laws of the United States of America, including section 301 of title 3, United States Code, I hereby order as follows:

Section 1. (a) I hereby delegate to the Attorney General, in consultation with the Secretary of the Treasury, the Secretary of Commerce, and the Secretary of Homeland Security, all authorities vested in the President by the Protecting Americans from Foreign Adversary Controlled Applications Act (Division H of Public Law 118-50).

(b) In exercising the authorities delegated in subsection (a) of this section, the Attorney General may, as appropriate, consult with the Director of National Intelligence and the heads of other relevant executive departments and agencies (agencies).

Sec. 2. (a) There is established a Committee for the Review of Foreign Adversary Controlled Applications (Committee), composed of the Secretary of State, the Secretary of the Treasury, the Secretary of Defense, the Attorney General, the Secretary of Commerce, the Secretary of Homeland Security, and the Director of National Intelligence. Not later than 180 days after the date of this memorandum, the members of the Committee, through a process convened by National Security Council staff consistent with National Security Memorandum 2 of February 4, 2021 (Renewing the National Security Council System), shall determine rules and procedures sufficient for the Committee to exercise the authorities delegated to the Attorney General under section 1 of this memorandum. Upon conclusion of the 180-day period, the Committee shall exercise those authorities in accordance with such rules and procedures.

(b) The Director of National Intelligence and the heads of other relevant agencies, as the Attorney General under section 1 of this memorandum or the Committee under section 2 of this memorandum determines appropriate, shall provide assessments of the threat to national security posed by foreign adversary controlled applications in connection with the discharge of the responsibilities, respectively, of the Attorney General or the Committee. In providing such assessments, the Director of National Intelligence shall solicit and incorporate the views of the Intelligence Community, as appropriate.

Sec. 3. The Attorney General is authorized and directed to publish this memorandum in the Federal Register.

THE WHITE HOUSE,

Washington, July 24, 2024

[FR Doc. 2024-16741

Filed 7-26-24; 8:45 am]

Billing code 4410-19-P